DEPARTMENT OF COMMERCE

Foreign-Trade Zones Board

[B-59-2014]

Foreign-Trade Zone (FTZ) 90—Onondaga County, New York; Notification of Proposed Production Activity; PPC Broadband, Inc.; Subzone 90C (Coaxial Jumper Cables); Dewitt, New York

The Onondaga County Office of Economic Development, grantee of FTZ 90, submitted a notification of proposed production activity to the FTZ Board on behalf of PPC Broadband, Inc. (PPC Broadband), located in Dewitt, New York. The notification conforming to the requirements of the regulations of the FTZ Board (15 CFR 400.22) was received on August 12, 2014.

PPC Broadband already has authority to produce coaxial cable connectors within Subzone 90C. The current request would add a finished product (coaxial jumper cables with connectors) and an input (coaxial cable) to the scope of authority. Pursuant to 15 CFR 400.14(b), additional FTZ authority would be limited to the specific foreign-status materials/components and specific finished products described in the submitted notification (as described below) and subsequently authorized by the FTZ Board.

The additional production under FTZ procedures could exempt PPC Broadband from customs duty payments on the coaxial cable and on the components in the existing scope of authority used in export production. On its domestic sales, PPC Broadband would be able to choose the duty rate during customs entry procedures that applies to coaxial jumper cables with connectors for the foreign-status coaxial cable (duty rate for both is 5.3%) and for the foreign-status components in the existing scope of authority. Customs duties also could possibly be deferred or reduced on foreign-status production equipment.

Public comment is invited from interested parties. Submissions shall be addressed to the FTZ Board's Executive Secretary at the address below. The closing period for their receipt is October 6, 2014.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

FOR FURTHER INFORMATION CONTACT: Diane Finver at Diane.Finver@trade.gov or (202) 482-1367.

Dated: August 21, 2014.
Andrew McGilvray,
Executive Secretary.

[FR Doc. 2014-20397 Filed 8-26-14; 8:45 am]

BILLING CODE 3510-DS-P